DEPARTMENT OF LABOR

Office of the Secretary

Bureau of International Labor Affairs; Office of Trade and Labor Affairs; Request for Comments on Labor Capacity-Building Efforts Under the Dominican Republic—Central America—United States Free Trade Agreement

AGENCIES: Office of the Secretary, Labor, and Office of the United States Trade Representative.

ACTION: Request for comments from the public.

SUMMARY: This notice is a request for comments from the public to assist the Secretary of Labor and the United States Trade Representative in preparing a report on labor capacity-building efforts under Chapter 16 (“the Labor Chapter”) and Annex 16.5 of the Dominican Republic—Central America—United States Free Trade Agreement (“the CAFTA-DR”), as well as efforts made by the CAFTA-DR countries to implement the recommendations contained in the report entitled “The Labor Dimension in Central America and the Dominican Republic—Building on Progress: Strengthening Compliance and Enhancing Capacity” (“the White Paper”). This report is required under the Dominican Republic—Central America—United States Free Trade Agreement Implementation Act (“the CAFTA-DR Implementation Act”). The reporting function and the responsibility for soliciting public comments required under this Act were assigned to the Secretary of Labor, in consultation with the United States Trade Representative.

DATES: Written comments are due no later than 5 p.m. May 20, 2011.

ADDRESSES: Persons submitting comments are strongly advised to make such submissions by electronic mail to the following address: FRFTACAFTA@dol.gov. Submissions by facsimile may be sent to: Paula Church Albertson, Deputy Division Chief of Trade Agreement Administration and Technical Cooperation, Office of Trade and Labor Affairs, U.S. Department of Labor at (202) 693-4851 (this is not a toll-free number).

FOR FURTHER INFORMATION CONTACT: Paula Church Albertson, Deputy Division Chief of Trade Agreement Administration and Technical Cooperation, Office of Trade and Labor Affairs, U.S. Department of Labor, 200 Constitution Avenue, NW., Room S-5303, Washington, DC 20210. Telephone (202) 693-4900 (this is not a toll-free number).

SUPPLEMENTARY INFORMATION:

1. Background

During the legislative approval process for the CAFTA-DR, the Administration and the Congress reached an understanding on the need to support labor capacity-building efforts linked to recommendations identified in the White Paper of the Working Group of the Vice Ministers Responsible for Trade and Labor in the countries of Central America and the Dominican Republic. A total of $155 million was appropriated in support of labor and environment capacity-building in FY 2005 through FY 2009. For more information on these initiatives, see the full text of the CAFTA-DR and the White Paper as well as other relevant fact sheets and reports posted on the respective Web sites of the Office of the United States Trade Representative, http://www.ustr.gov/Trade_Agreements/Regional/CAFTA/Section_Index.html, and the International Labour Organization (ILO) Subregional Office for Central America, Haiti, Panama and the Dominican Republic, http://web.oit.or.cr/ (follow the link to: Sector IV, Diálogo Social, and then link to: Verification of the White Paper, Central America and the Dominican Republic).

In addition, in December 2006, the USDOL published the procedural guidelines for the receipt and review of submissions under U.S. Free Trade Agreements, including the CAFTA-DR (71 FR 76691 Dec. 21, 2006). Subsequently, the U.S. held the first Labor Affairs Council meeting in November 2008, pursuant CAFTA-DR Article 16.4.2. Since the CAFTA-DR came into force, OTLA has received, accepted and reviewed one submission, issuing a public report in January 2009. OTLA received a second submission, and will decide whether to accept this submission in April 2011.

Under section 403(a) of the CAFTA-DR Implementation Act, 19 U.S.C. 4111(a), the President must report biennially to the Congress on the progress made by the CAFTA-DR countries in implementing the labor obligations and the labor capacity-building provisions found in the Labor Chapter and Annex 16.5 and implementing the recommendations contained in the White Paper. Section 403(a)(4) requires the President to establish a mechanism to solicit public comments on the matters described in section 403(a)(3)(D) of the CAFTA-DR Implementation Act, 19 U.S.C. 4111(a)(4).

By Proclamation, the President delegated the reporting function and the responsibility for soliciting public comments under section 403(a) of the CAFTA-DR Implementation Act, 19 U.S.C. 4111(a), to the Secretary of Labor, in consultation with the United States Trade Representative. Proclamation No. 8272, 73 FR 38,297 (June 30, 2008). This notice serves to request public comments as required by this section.

2. Information Sought

The Department of Labor is seeking comments on the following topics as required under Section 404(a)(3)(D) of the CAFTA-DR Implementation Act:

1. Capacity-building efforts by the United States government envisaged by Article 16.5 of the CAFTA-DR Labor Chapter and Annex 16.5;

2. Efforts by the United States government to facilitate full implementation of the White Paper recommendations;

3. Efforts made by the CAFTA-DR countries to comply with Article 16.5 of the Labor Chapter and Annex 16.5 and to fully implement the White Paper recommendations, including progress made by the CAFTA-DR countries in affording to workers internationally-recognized worker rights through improved capacity; and

4. Efforts made by the governments of the Parties to the CAFTA-DR to fulfill their Labor Chapter (Chapter 16) commitments under the CAFTA-DR.

3. Requirements for Comments

This notice requests comments in response to a general solicitation to the public. Written comments may be submitted by 5 p.m. May 20, 2011. To ensure prompt and full consideration of comments, it is strongly recommended that comments be submitted by electronic mail to the following e-mail address: FRFTACAFTA@dol.gov. Persons making comments by e-mail should use the following subject line: Comments pursuant to CAFTA-DR Implementation Act. Documents should be submitted in MSWord format. Supporting documentation submitted as spreadsheets is acceptable in Excel format. Persons who make comments by e-mail should not provide separate cover letters; information that might appear in a cover letter should be included in the comments themselves. Similarly, to the extent possible, any attachments to the comments should be included in the same file as the comments themselves, not as separate files. In the event that e-mail comments are not possible, comments should be sent by facsimile to (202) 693-4851 (this is not a toll-free number). Written comments will be placed in a file open to public inspection at the Department of Labor, Room S-5303, 200 Constitution Avenue, NW., Washington, DC 20210. An appointment to review the file must be scheduled at least 48 hours in advance and may be made by calling (202) 693-4900 (this is not a toll-free number).

Signed at Washington, DC, the 7th day of April 2011.
Sandra Polaski,
Deputy Undersecretary, International Affairs.

[FR Doc. 2011-8971 Filed 4-12-11; 8:45 am]

BILLING CODE 4510-28-P